DEPARTMENT OF DEFENSE

Office of the Secretary

[Transmittal No. 20-0A]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 20-0A with attached Policy Justification and Sensitivity of Technology.

Dated: December 23, 2019.
Aaron T. Siegel,
Alternate OSD Federal Register Liaison Officer, Department of Defense.

BILLING CODE 5001-06-P

BILLING CODE 5001-06-C

Transmittal No. 20-0A

REPORT OF ENHANCEMENT OR UPGRADE OF SENSITIVITY OF TECHNOLOGY OR CAPABILITY (SEC. 36(B)(5)(C), AECA)

(i) Purchaser: Government of Italy

(ii) Sec. 36(b)(1), AECA Transmittal No.: 08-60

Date: August 1, 2008

Military Department: Air Force

(iii) Description: On August 1, 2008, Congress was notified by Congressional certification transmittal number 08-60 of the possible sale, under Section 36(b)(1) of the Arms Export Control Act, of 4 MQ-9 Unmanned Aerial Vehicles (UAV), 3 Mobile Ground Control Stations, five years of maintenance support, engineering support, test equipment, ground support, operational flight test support, communications equipment, technical assistance, personnel training/equipment, spare and repair parts, and other related elements of logistics support. These UAVs included AN/DPY-1 Synthetic Aperture Radar/Ground Moving Target Indicator (SAR/GMTI) systems with 0.3 to 3 meter resolution. The estimated total cost was $330 million. Major Defense Equipment (MDE) constituted $50 million of this total.

On November 18, 2009, Congress was notified by Congressional certification transmittal number 09-60 of the possible sale, under Section 36(b)(1) of the Arms Export Control Act, of two unarmed MQ-9 Unmanned Aerial Vehicles (UAVs), one (1) Mobile Ground Control Station, maintenance support, engineering support, test equipment, ground support, operational flight test support, communications equipment, technical assistance, personnel training/equipment, spare and repair parts, and other related elements of logistics support. These UAVs included AN/DPY-1 Synthetic Aperture Radar/Ground Moving Target Indicator (SAR/GMTI) systems with 0.1 to 3 meter resolution. The estimated total cost was $63 million. MDE constituted $36 million of this total.

On December 17, 2009, Congress was notified by Congressional certification transmittal number 0C-09 of the possible sale, under Section 36(b)(5)(a) of the Arms Export Control Act, of a performance upgrade of the AN/DPY-1 SAR/GMTI systems aboard the four MQ-9s UAVs previously notified on transmittal 08-60 from 0.3 to 3 meter resolution to the same 0.1 to 3 meter resolution of the two MQ-9s notified on transmittal 09-60. There was no increase in cost of MDE for this upgrade.

This transmittal reports the addition of Major Defense Equipment items beyond what was originally notified to include:

1. Retrofit of five (5) existing MQ-9A Block 1 Unmanned Aerial Vehicles (UAV) to Block 5;

2. Retrofit of two (2) existing MGCS Block 30;

3. Addition of three (3) MQ-9A Block 5;

4. Addition of eight (8) Multi-Spectral Targeting Systems (MTS-B) AN/DAS-1A;

5. Addition of eight (8) General Atomics AN/APY-8 Lynx (exportable) Synthetic Aperture Radar/Ground Moving Target Indicator (SAR/GMTI) Systems, with Maritime Wide Area Search (MWAS) capability;

6. Addition of two (2) Mobile Ground Control Station (MGCS) Block 30, and;

7. Addition of twenty-seven (27) Honeywell H-764 Adaptive Configurable Embedded Global Positioning System/Inertial Guidance Units (EGI) with Selective Availability Anti-Spoofing Module (SAASM) (24 installed, 3 spares).

The retrofit, addition of aircraft, and inclusion of the above listed MDE not enumerated in the previous notifications will result in a net increase in MDE costs of $180 million and non-MDE cost of $138 million. These notifications represent the entirety of Italy's MQ-9 program, which will now increase in value from $393 million to $711 million.

(iv) Significance: As Italy continues with its plans to develop a robust MQ-9A fleet, it has requested additional aircraft. Enhancement of Italy's MQ-9A aircraft will provide strike capability to augment intelligence, surveillance, and reconnaissance (ISR) capability. The proposed sale increases Italy's capability to participate in Europe and NATO security operations and supports the foreign and national security policies of the US by enhancing the ISR and strike capability of a major ally.

(v) Justification: Italy is a major political and economic power in NATO and a key democratic partner of the United States in ensuring peace and stability around the world. Italy requests these capabilities to provide for the defense of deployed troops, regional security, and interoperability with the United States.

(vi) Sensitivity of Technology:

1. The MQ-9A Block 5 Unmanned Aerial System (UAS) is UNCLASSIFIED. The highest level of classified information required for training, operation, and maintenance is SECRET. The MQ-9A Block 5 is a Medium Altitude, long-endurance (MALE) remotely piloted aircraft that can be used for surveillance, military reconnaissance, and targeting missions. Real-time missions are flown under the control of a pilot in a Ground Control Station (GCS). A datalink is maintained that uplinks control commands and downlinks video with telemetry data. Line-of-Sight (LOS) communications is enabled through C-Band datalink and Beyond-Line-of-Sight (BLOS) communications is enabled through Ku-Band Satellite Communication (SATCOM). Control of the aircraft and payload are done through direct manual inputs by the crew or through preprogrammed mission. Preprogrammed missions are planned and uploaded by the pilots via the GCS and are executed through the control of an onboard suite of redundant computers and sensors. Payload imagery and data are downlinked to the GCS. The pilot may initiate pre-programmed missions once the aircraft is airborne and lands the aircraft when the mission is completed. Pilots can change preprogrammed mission parameters as often as required. When operated BLOS, aircraft control is given to other strategically placed Ground Control Stations—permitting remote split operations (RSO). The MQ-9A Block 5 is designed to carry 850 pounds of internal payload with maximum fuel and can carry multiple mission payloads aloft. The MQ-9A Block 5 will be configured for the following payloads: Electro-Optical/Infrared (EO/IR), Synthetic Aperture Radar (SAR), Electronic Support Measures (ESM), Signals Intelligence (SIGINT), laser designators, and various weapons packages. The MQ-9A Block 5 systems will include the following components:

a. The Ground Control Station (GCS) can be either fixed or mobile. The fixed GCS is enclosed in a customer-specified shelter. It incorporates workstations that allow operators to control and monitor the aircraft, as well as record and exploit downlinked payload data. The mobile GCS allows operators to perform the same functions and is contained on a mobile trailer. Workstations in either GCS can be tailored to meet customer requirements. The GCS, technical data, and documents are UNCLASSIFIED.

b. The Raytheon Multi-Spectral Targeting System-B (MTS-B) integrates electro-optical (EO), infrared (IR), laser designation and laser illumination capabilities to provide detection, ranging, and tracking capabilities specifically for high-altitude applications. This advanced EO and IR system provides long-range surveillance, high altitude target acquisition, tracking, range finding, and laser designation for the Hellfire missile and for all tri-service and NATO laser-guided munitions.

c. The AN/APY-8 Lynx Block 20 Synthetic Aperture Radar and Ground Moving Target Radar system provides all-weather surveillance, tracking and targeting for military and commercial customers from manned and unmanned vehicles. The AN/PY-8 Lynx Block 20SAR/GMTI radar system and technical data/documents are UNCLASSIFIED.

d. The Honeywell H-764 Adaptive Configurable Embedded Global Positioning System/Inertial Guidance Unit (EGI) contains the Force 524D GPS Receiver card with Selective Availability Anti-Spoofing Module (SAASM). The Force 524D is a 24-channel SAASM based GPS receiver with precise positioning service capability built upon Trimble's next generation GPS technology. The Force 524D retains backward compatibility with the proven Force 5GS while adding new functionality to interface with the digital antenna electronics to significantly improve anti-jam performance. The host platform can select the radio frequency of digital antenna electronics interface. In the digital mode, the Force 524D is capable of controlling up to 16 independent beams.

(vii) Date Report Delivered to Congress: December 4, 2019

[FR Doc. 2019-28189 Filed 12-30-19; 8:45 am]

BILLING CODE 5001-06-P